MILLENNIUM CHALLENGE CORPORATION

[MCC FR 25-09]

Notice of Open Meeting

AGENCY: Millennium Challenge Corporation.

ACTION: Notice.

SUMMARY: In accordance with the requirements of the Federal Advisory Committee Act, the Millennium Challenge Corporation (MCC) Advisory Council was established as a discretionary advisory committee on July 14, 2016. Its charter was most recently renewed for a fourth term on July 5, 2024. The MCC Advisory Council serves MCC solely in an advisory capacity and provides insight regarding innovations in infrastructure, technology, and sustainability; perceived risks and opportunities in MCC partner countries; new financing mechanisms for developing country contexts; and shared value approaches. The MCC Advisory Council provides a platform for systematic engagement with the private sector and other external stakeholders and contributes to MCC's mission—to reduce poverty through sustainable economic growth.

DATES: Thursday, January 15, 2026, from 10:00 a.m.-11:30 a.m. EST.

ADDRESSES: The meeting will be held virtually via conference call.

FOR FURTHER INFORMATION CONTACT: Email MCCAdvisoryCouncil@mcc.gov, contact Sheena Cooper at (202) 733-7148, or visit https://www.mcc.gov/about/org-unit/advisory-council for more information.

SUPPLEMENTARY INFORMATION:

Agenda. During the January 2026 meeting of the MCC Advisory Council, members will receive updates on the MCC December board meeting and updated portfolio countries. Additionally, members will engage with MCC's new private sector strategy that is in development.

Public Participation. The meeting will be open to the public. Members of the public may file written statement(s) before or after the meeting. If you plan to attend, please submit your name and affiliation no later than Tuesday, January 13, 2026, to MCCAdvisoryCouncil@mcc.gov to receive instructions on how to attend.

(Authority: Federal Advisory Committee Act, 5 U.S.C. App.)

Brian Finklestein,
Acting Vice President, General Counsel, and Corporate Secretary.

[FR Doc. 2025-23511 Filed 12-19-25; 8:45 am]

BILLING CODE 9211-03-P